DEPARTMENT OF VETERANS AFFAIRS

[OMB Control No. 2900-New (10-0472)]

Agency Information Collection Activities (MOVE! Weight Management Program) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATE: Comments must be submitted on or before October 23, 2009.

ADDRESSES: Submit written comments on the collection of information through http://www.Regulations.gov; or to VA's OMB Desk Officer, OMB Human Resources and Housing Branch, New Executive Office Building, Room 10235, Washington, DC 20503 (202) 395-7316. Please refer to “OMB Control No. 2900-New (10-0472)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (10-0472).”

SUPPLEMENTARY INFORMATION:

Title: MOVE! Weight Management Program for Veterans Survey of Patient Experiences, VA Form 10-0472.

OMB Control Number: 2900-New (10-0472).

Type of Review: New collection.

Abstract: The data collected on VA Form 10-0472 will be used to evaluate a patient's experience in VA's weight management treatment program. VA will use the data collected to understand the program effectiveness and to design future program enhancements.

An agency may not conduct or sponsor, and a person is not required to respond to a collection of information unless it displays a currently valid OMB control number. The Federal Register Notice with a 60-day comment period soliciting comments on this collection of information was published on July 16, 2009, at page 34640.

Affected Public: Individuals or households.

Estimated Annual Burden: 5,000.

Estimated Average Burden Per Respondent: 15 minutes.

Frequency of Response: Annually.

Estimated Number of Respondents: 1,250.

Dated: September 18, 2009.
By direction of the Secretary.
Denise McLamb,
Program Analyst, Enterprise Records Service.

[FR Doc. E9-22880 Filed 9-22-09; 8:45 am]

BILLING CODE 8320-01-P